Title 3—

The President

Presidential Determination No. 2008-14 of March 7, 2008

Unexpected Urgent Refugee and Migration Needs Related to Kenya

Memorandum for the Secretary of State

By the authority vested in me by the Constitution and the laws of the United States, including sections 2 and 4(a)(1) of the Migration and Refugee Assistance Act of 1962 (the “Act”), as amended (22 U.S.C. 2601 and 2603), and section 301 of title 3, United States Code:

(1) I hereby determine, pursuant to section 2(c)(1) of the Act, that it is important to the national interest to furnish assistance under the Act, in an amount not to exceed $4.9 million from the United States Emergency Refugee and Migration Assistance Fund for the purpose of meeting unexpected and urgent refugee and migration needs, including by contributions to international, governmental, and nongovernmental organizations and payment of administrative expenses of the Bureau of Population, Refugees and Migration of the Department of State, related to humanitarian needs in Kenya and for Kenyan refugees in neighboring countries; and

(2) the functions of the President in relation to this memorandum under section 2(d) of the Act, and of establishing terms and conditions under section 2(c)(1) of the Act, are assigned to you, and you may further assign such functions to any of your subordinates, consistent with applicable law.

You are authorized and directed to publish this memorandum in the Federal Register.

THE WHITE HOUSE,

Washington, March 7, 2008.

[FR Doc. 08-1027

Filed 3-12-08; 8:45 am]

Billing code 4710-10-P